DEPARTMENT OF THE INTERIOR

Fish and Wildlife Service

Fish and Wildlife Service and Confederated Salish and Kootenai Tribes Sign Annual Funding Agreement

AGENCY: Fish and Wildlife Service, Interior.

ACTION: Notice.

SUMMARY: On June 19, 2008, the U.S. Fish and Wildlife Service (the Service) and the Confederated Salish and Kootenai Tribes (CSKT) (collectively the Parties) signed an annual funding agreement (AFA) under the Tribal Self-Governance Act of 1994. The Tribal Self-Governance Act provides for the Secretary of the Interior (the Secretary) to negotiate and enter into an AFA with a tribe participating in Self-Governance, authorizing the tribe to plan, conduct, consolidate, and administer programs, services, functions, and activities, or portions thereof (Activities), administered by the Secretary, which are of special geographic, historical, or cultural significance to that tribe. This includes such Activities within the National Wildlife Refuge System (NWRS).

Under the AFA, the CSKT will function in partnership with the Service and will be directly involved with our management mission at the National Bison Range Complex (NBRC). CSKT will perform a variety of Activities at the NBRC, including operational responsibility for mission-critical Activities such as the biology, maintenance, visitor services, and fire programs. The NBRC will remain a unit of the NWRS and will continue to be administered and managed by the Service in accordance with the NWRS Administration Act (16 U.S.C. 668dd-ee, as amended), and all other applicable Federal laws, regulations, and policies.

On June 19, 2008, the AFA was signed by the Tribal Chairman and the Director of the Service, and endorsed by the following senior Department of the Interior management officials: The Secretary of the Interior, Deputy Secretary of the Interior, Assistant Secretary for Fish and Wildlife and Parks, and Acting Director, Office of Economic Development, on behalf of the Office of the Acting Assistant Secretary—Indian Affairs. Copies of the AFA have been forwarded to the U.S. Congress for a 90-day review period, pursuant to the implementing regulations at 25 CFR 1000.177-178.

DATES: The AFA term is October 1, 2008, through September 30, 2011. The Parties may agree in writing to extend the term for performing any Activity covered by the AFA, as provided at 25 CFR 1000.146, and subject to applicable Federal laws and regulations. All of the terms and conditions of the AFA will apply during any extension. The Parties may modify the Activities covered by the AFA or the consideration paid by the Service to the CSKT for performing an Activity only by amendment as provided in Section 21.A of the AFA.

ADDRESSES: You may obtain a copy of the AFA and Attachments A-D at any of the following Internet or U.S. mail addresses:

1. Internet— http://mountain-prairie.fws.gov/cskt-fws-negotiation.

2. Montana—National Bison Range Headquarters, 132 Bison Range Road, Moiese, Montana 59824.

3. Denver—U.S. Fish and Wildlife Service Regional Office, National Wildlife Refuge System—Mountain-Prairie Region, P.O. Box 25486, DFC, Denver, Colorado 80225.

4. Confederated Salish and Kootenai Tribes, P.O. Box 278, Pablo, Montana 59855.

FOR FURTHER INFORMATION CONTACT: Dean Rundle, Refuge Supervisor, at (303) 236-4306.

SUPPLEMENTARY INFORMATION: What is the NBRC? Located in northwestern Montana, the NBRC is part of the NWRS and consists of the National Bison Range, the Pablo and Ninepipe National Wildlife Refuges, and that portion of the Northwest Montana Wetland Management District that lies in Lake County. Established in 1908 to conserve the American Bison, the NBRC provides important habitat for a variety of species such as elk, pronghorn antelope, and migratory birds.

How Was the AFA Developed? The Service and the CKST negotiated in accordance with 25 CFR part 1000.

What Events Led to this AFA? In January 2008, at the request of Department of the Interior and Service leadership, representatives of the Parties entered into a facilitated process to create a framework for negotiating an AFA pursuant to the Indian Self-Determination and Education Assistance Act (Pub. L. 93-638). The overarching goal of this process and the subsequent negotiations was to build trust and ensure a solid understanding of both Parties' interests and intentions with regard to the long-term conservation and stewardship of the NBRC.

Throughout the period of January-June 2008, the parties engaged in government-to-government negotiations, led by professional, field-level staff, to draft the AFA in a manner that balanced the intent and function of the Self-Governance Act and the NWRS Administration Act, as well as other applicable Federal laws, regulations, and policies. Following the conclusion of negotiations in June 2008, the Service and the Department of the Interior conducted an extensive legal and policy review of the AFA to ensure it met all applicable requirements before signing the AFA on behalf of the United States.

What is the Tribal Self-Governance Act of 1994? The Tribal Self-Governance Act (codified at 25 U.S.C. 458aa-458hh) was enacted as an amendment to Public Law 93-638 (codified as the Indian Self-Determination Act, 25 U.S.C. 450-450n) and incorporated as Title IV of that Law. The Tribal Self-Governance Act allows qualifying tribes the opportunity to request AFAs with the Bureau of Indian Affairs (BIA) and non-BIA bureaus within the Department of the Interior. When dealing with non-BIA bureaus, including the Service, qualifying tribes may enter into AFAs that allow them to conduct certain activities of such non-BIA bureaus. Eligible activities include Indian programs (programs created for the benefit of Native Americans because of their status as Native Americans); activities otherwise available to Native American tribes (any activity that a Federal agency might otherwise contract to outside entities); and activities that have a special geographic, historical, or cultural significance to the Indian tribe requesting a compact. Public Law 93-638 and the implementing regulation at 25 CFR 1000.129 prohibit the inclusion of Activities in an AFA that are inherently Federal functions. The NBRC has no special Tribal programs. All activities conducted by the Service on national wildlife refuges are for the benefit of the fish and wildlife resources, their habitats, and the American public. Activities that may have a special relationship with a tribe are the most promising for inclusion in an AFA. Whether to enter into an AFA with a tribe for these activities is discretionary on the part of the Service. The Service recognizes that the CSKT has a cultural, historical, and/or geographical connection to the lands and resources of the NBRC. The proposed AFA provides for the CSKT to perform certain Activities for the NBRC during a 3-year period.

What Happens Now?

As noted above, the AFA has been signed by the Director of the Service, and endorsed by senior Department of the Interior management. In accordance with 25 CFR 1000.177, the Assistant Secretary for Fish and Wildlife and Parks has forwarded copies of the AFA to the Senate Committee on Indian Affairs and the House Subcommittee on Native American and Insular Affairs, as well as other Congressional committees with jurisdictions related to the NWRS and the Service. If there are no objections to the AFA, the agreement will take effect 90 days after submission to Congress.

Dated: June 27, 2008.
Lyle Laverty,
Assistant Secretary for Fish and Wildlife and Parks.

[FR Doc. E8-15685 Filed 7-9-08; 8:45 am]

BILLING CODE 4310-55-P